DEPARTMENT OF THE INTERIOR

Fish and Wildlife Service

Notice of Availability, Restoration Plan and Environmental Assessment for Natural Resources Injured by Releases of Pesticides From the United Heckathorn Superfund Site

AGENCY: Fish and Wildlife Service, Interior.

ACTION: Notice of availability.

SUMMARY: The U.S. Fish and Wildlife Service, on behalf of the Department of the Interior, the National Oceanic and Atmospheric Administration, and the State of California, announces the release for public review of the Final Tubbs Island Restoration Plan and Environmental Assessment (Plan/Assessment) for a wetland restoration project at Lower Tubbs Island, Sonoma County, California. The Tubbs Island Restoration Project was selected by the United Heckathorn Natural Resource Trustee Council (Trustees), consisting of representatives of the agencies listed above, as the preferred alternative to compensate the public for impairment of fish and wildlife habitat resulting from releases of dichlorodiphenoltrichloroethane (DDT) at the United Heckathorn Superfund Site in Richmond, California. Funds to carry out the restoration program were obtained via Consent Decrees between the government and the responsible parties in July 1996, and the Final Tubbs Island Restoration Plan and Environmental Assessment was completed in August 1998, along with a Finding of No Significant Impact (FONSI) under the National Environmental Policy Act (NEPA). The Plan/Assessment describes the approach, schedule, and budget for completing and monitoring the restoration project. A public hearing will be held to present the Trustees' proposal to fund the Tubbs Island Restoration Project with funds from the United Heckathorn settlement, and all interested parties are invited to submit comments on the proposal.

DATES: The public hearing will be held from 6:30 until 8:00 p.m., Wednesday, March 22, 2000, Richmond, California. The comment period closes March 30, 2000.

ADDRESSES: The public hearing will be held at the Martin Luther King Community Center, 360 Harbor Way South, Richmond, California. Written comments and materials should be sent to: Field Supervisor, Fish and Wildlife Service, Sacramento Fish and Wildlife Office, 2800 Cottage Way, Room W-2605, Sacramento, CA 85825 (facsimile 916/414-6713). Comments and materials received will be available for public inspection, by appointment, during normal business hours at the above address. The Plan/Assessment is available for review on the internet at http://www.r1.fws.gov. The Plan/Assessment is also on file at the U.S. Fish and Wildlife Service, San Pablo Bay National Wildlife Refuge P.O. Box 2012, 1404 Mesa Road, Mare Island, CA 94952; (707) 562-3000. It is available for public inspection during normal business hours, by appointment, at that address.

FOR FURTHER INFORMATION CONTACT: James Haas, Fish and Wildlife Service, Sacramento Fish and Wildlife Office (see ADDRESSES section) at (916) 414-6604.

SUPPLEMENTARY INFORMATION:

Background

Between approximately 1947 and 1966, several operators formulated and packaged DDT and other pesticides at the United Heckathorn Site in Richmond Harbor, Contra Costa County, California. These operations resulted in releases of DDT and dieldrin into the Lauritzen Channel, a water body that is physically connected to Richmond Harbor and San Francisco Bay via the Santa Fe Channel. Investigations supervised by the U.S. Environmental Protection Agency (EPA) documented concentrations of DDT as high as 633,000 micrograms per kilogram (ug/kg) in sediments of the Lauritzen Channel (White et al. 1994). Dieldrin concentrations as high as 16,000 ug/kg were also detected (White et al. 1994). Concentrations of DDT and dieldrin exhibited a gradient with highest concentrations in the Lauritzen Channel at the United Heckathorn Site and lower concentrations with increasing distance from the site. The nearby Parr Canal also contained elevated concentrations of pesticides. Extensive contamination of upland soils was also detected by EPA and State of California investigations, and the site was listed on the National Priorities List (NPL List) in 1990.

EPA's Ecological Risk Assessment for the United Heckathorn NPL Site (Lee et al. 1994) noted that concentrations of DDT in sediments were elevated to acutely toxic levels in the Lauritzen Channel and structure and abundance of organisms in the benthic community were affected. Water quality criteria for DDT and dieldrin were violated in the Lauritzen and Santa Fe Channels. High concentrations of DDT were detected in tissues of fish, transplanted mussels, and resident invertebrates from the Lauritzen Channel. Concentrations of DDT in fish exceeded by orders of magnitude levels that may cause adverse impacts to sensitive fish-eating birds. Overall, the results of the Ecological Risk Assessment indicated that the gross contaminant levels in the Lauritzen Channel threatened a variety of ecological receptors at various trophic levels, including benthic and water column organisms and fish-eating birds. While the Santa Fe Channel was less contaminated, DDT concentrations there were still significantly higher than levels which may threaten sensitive fish-eating birds.

In its Record of Decision, EPA selected a cleanup alternative that involved dredging and off-site disposal of all soft bay mud (approximately 65,000 cubic yards) in the Lauritzen Channel and Parr Canal, placement of clean sediment after dredging, capping of terrestrial areas around the former United Heckathorn facility, a deed restriction or notice limiting use of the Levin-Richmond terminal to its current industrial classification, and marine monitoring to determine the effectiveness of the remedy. The remedy was implemented in 1996 and marine monitoring is in progress.

The remedy selected by EPA should provide overall protection of human health and the environment and should enable natural recovery of the benthic and water column communities in the dredged area. However, the degradation of the habitat during the decades between the pesticide releases and the cleanup resulted in a cumulative loss of ecological services in the Lauritzen Channel. These lost ecological services were estimated by the Natural Resource Trustees using Habitat Equivalency Analysis and formed the basis of settlements with the responsible parties for natural resource damages. The $365,000 settlement was based on estimates of the cost of restoration of habitat that would provide comparable services to fish, benthic invertebrates and fish-eating birds.

The restoration funds were recovered under the natural resource damage provisions of the Comprehensive Environmental Response, Compensation, and Liability Act (CERCLA). A Trustee Council was established to review and select restoration projects to be funded with the settlement money and any interest it earns. The Trustee Council is responsible for ensuring that the funds are spent in an appropriate and cost-effective manner to compensate the public for the loss of ecological services of habitat affected by the pesticide releases from the United Heckathorn NPL Site. The selected projects must restore, replace, rehabilitate, or acquire the equivalent of natural resources or resource services that were injured by the pesticide releases.

The loss of ecological services resulting from the contamination of sediments in the Lauritzen Channel was estimated using a Habitat Equivalency Analysis (HEA). Assuming that 10.3 acres of soft-bottom habitat were 100% impaired from 1981 to 1996, and that EPA's remediation project would result in natural recovery of the affected community by 2015, the HEA model estimates that the pesticide releases resulted in a loss of approximately 256 acre-years of services.

The Trustees used the HEA model to estimate the size of a restoration project that would compensate for the loss of 256 acre-years of habitat services. A scenario in which soft bottom habitat would be restored at a site other than the Lauritzen Channel to compensate for the habitat service losses in the Lauritzen Channel was modeled. In this model, the restoration project was assumed to increase the value of the restored habitat by a factor of two over a 20 year period and to provide this increased level of services in perpetuity. Under this scenario, each restored acre would provide 9.56 discounted acre-years of services, measured in terms of baseline level of services provided by the injured habitat in the Lauritzen Channel. Thus, a project involving restoration of 26.7 acres of soft bottom habitat (or 2.6 acres of restoration project per injured acre) would compensate for the interim lost services resulting from the pesticide releases.

In selecting restoration alternatives, the Trustees must decide whether feasible alternatives exist for the affected organisms (in-kind restoration) in the area affected by the releases (on-site restoration), or whether compensatory projects involving other organisms (out-of-kind restoration) or other sites (off-site restoration) are more appropriate. For United Heckathorn, the Trustees concentrated their damage assessment and restoration planning efforts on the types of natural resources that were most likely to have been affected by the pesticide releases. These resources include fish and benthic invertebrates that inhabit soft bottom habitats and fish-eating birds that forage in the vicinity of the site. Restoration of alternative species or communities was not considered because the Trustees felt that feasible restoration alternatives could be developed for the types of organisms that were affected by the releases.

The Trustees considered whether to attempt restoration of soft bottom habitat in the Lauritzen Channel after completion of the dredging project. Since the United Heckathorn Site and adjacent areas of the harbor will, in all-likelihood, remain industrial, the Trustees felt that attempting restoration projects in the affected area would be less beneficial than implementing projects in less industrial areas of the bay. Therefore, the Trustees focused their on-site efforts on coordinating with EPA to achieve a protective remedy for the contaminated sediments. The dredging of the contaminated sediments, the application of clean sediment over the dredged area, and the monitoring program that is in place are intended to allow the natural recovery of the benthic and water column communities in the Lauritzen Channel. The interim losses in resource services can best be compensated for through off-site restoration projects that benefit the same types of organisms that were affected by the releases (i.e., restoration projects that are in-kind but off-site).

Restoration of subtidal soft-bottom habitat in San Francisco Bay was viewed by the Trustees as an infeasible option for use of the settlement money for several reasons. Subtidal soft-bottom habitat in the bay typically is restricted to shipping lanes and industrial areas that are periodically dredged to maintain adequate depth. Disturbance from dredging, vessel traffic, and industrial and municipal discharges would make it difficult to maintain the ecological value of any restoration projects that could be implemented in these areas. In subtidal areas that are not in shipping lanes, dredging may actually be necessary in order to rehabilitate contaminated sediments. However, the $365,000 that the Trustees received in the settlement would not be sufficient to cover costs of dredging and off-site disposal of contaminated sediments.

The Trustees regard creation of soft bottom habitat through restoration of tidal slough/salt marsh complexes as a more feasible and cost effective way of providing comparable soft bottom habitat services to those that were lost due to the pesticide releases. Soft bottom habitat is prevalent in the early years of a marsh restoration project as the salt marsh vegetation takes years to establish and become dominant. Prior to maturation of the salt marsh vegetation, the area restored to tidal action must fill with silt, a process that can take several years. The silt filled area functions as soft bottom habitat until marsh vegetation gets established. Tidal sloughs also form during this time and persist even after the marsh vegetation becomes established. Slough bottoms provide many of the same ecological services to fish, aquatic invertebrates, and fish eating birds as the subtidal soft bottom habitats that were affected by the pesticide releases. Restoration of tidal slough/salt marsh complexes is the alternative the Trustees have selected to compensate for the ecological services lost at the United Heckathorn NPL site.

The Trustees developed a list of criteria to consider in selecting wetland restoration projects for funding. The criteria included:

(1) Replacement of lost ecological services (foraging, nursery, and spawning habitat for estuarine fish and invertebrates and fish-eating birds).

(2) Restoration of fully tidal salt marsh habitat containing open water sloughs.

(3) Projects located within the North Bay or San Pablo Bay (i.e., projects located north of the Bay Bridge).

(4) Projects that can be implemented fairly easily in one year with little additional cost for long-term operation and maintenance.

(5) Projects that will develop resource services relatively quickly.

(6) Projects that are situated on uncontaminated property.

(7) Projects that do not involve costs of acquiring land (i.e., projects that are on land that is already in public ownership).

(8) Projects that are consistent with the goals for San Francisco Bay-wide planning, particularly projects that have been identified in Regional Restoration Plans or equivalent documents that are products of multi-agency planning efforts.

(9) Projects that have already been designed and have begun to complete required environmental documents and to obtain necessary permits and do not appear likely to experience lengthy delays in completing these requirements.

(10) Projects that have sources of matching funds or services that can be applied toward the projects along with the damage settlement money.

The site of the selected project is Lower Tubbs Island, which consists of the most southern 72 acres of Tubbs Island, situated between Tolay Creek and Sonoma Creek at the west end of San Pablo Bay National Wildlife Refuge. The site was formerly tidal flat or marsh but it was enclosed by levees at the turn of the century and converted to agricultural use, especially production of oats and hay. The property was leased to the Fish and Wildlife Service by the State of California in 1976 and agricultural activities ceased in 1983. Since then the site has reverted to upland habitat containing sparse grasses and weeds that provides a limited amount of ecological habitat services to terrestrial wildlife species.

Restoration of Lower Tubbs Island is part of the Fish and Wildlife Service's long term plan for San Pablo Bay National Wildlife Refuge but funding has not been available to perform the necessary restoration work.

The Lower Tubbs Island project consists of construction of a new interior levee approximately 2,000 feet in length, followed by reinforcement and breaching of the existing levee that separates the property from San Pablo Bay. Other work may include ditch excavation and installation of two culverts with gates to improve water circulation. Materials for construction of the new interior levee would be excavated on site. Natural sedimentation would be relied on to gradually fill in the area and permit establishment of salt marsh vegetation. The project design is not complex and completion of the environmental compliance and permitting process is not expected to create unanticipated delays. The Fish and Wildlife Service determined that an Environmental Assessment was the appropriate form of documentation of the project's environmental affects required under the National Environmental Policy Act. An Environmental Assessment was completed, and a Finding of No Significant Impact signed, in August 1998.

Lower Tubbs Island has a number of attractive aspects that have resulted in its selection as the top candidate for restoration of habitat services injured at the United Heckathorn NPL Site. The project will restore the site to full tidal action and will result in the development of a salt marsh/tidal slough complex that will provide habitat for fish, aquatic invertebrates, and fish-eating birds. The proximity of Lower Tubbs Island to other restoration projects on San Pablo Bay National Wildlife Refuge and adjacent State lands contributes to the re-creation of a semblance of the salt marsh ecosystem that existed in the North Bay prior to extensive agricultural and industrial development. This complex of interconnected restored areas may provide much greater ecological services than an equivalent number of restored acres scattered around the bay in isolated pockets.

Preliminary project designs have already been completed by the Fish and Wildlife Service and the preliminary estimate of the project cost, not including monitoring, is $815,000. Matching funds and services have been obtained from several sources to complement the funding provided by the Trustees. These funding partnerships will enable the Trustees to contribute towards a larger project than would otherwise be possible if the damage settlement was the only source of money.

The Trustees selected the Lower Tubbs Island project after developing a list of approximately 30 other sites for potential wetland restoration projects. This initial list was reduced to about 10 sites after an initial screening that eliminated projects that did not seem to provide a good match to the resources and services that were injured at the United Heckathorn NPL site. Besides Lower Tubbs Island, the sites considered were the following:

(1) Tolay Creek

This project is adjacent to Lower Tubbs Island on San Pablo Bay National Wildlife Refuge and consists of restoration of tidal flow to Tolay Creek by excavating approximately 4 miles of sediment from the channel. Opening of the channel would allow tidal flow to deepen and widen the creek to its original dimensions. The increased tidal flow would enhance 300 acres of marsh and provide habitat for all species that utilize salt marshes in the North Bay, including juvenile fishes. During the time the Trustees were reviewing projects the Fish and Wildlife Service obtained funding for this project from other sources, and the project was implemented.

(2) Cullinan Ranch

This project is located north of Highway 37 near the city of Vallejo and consists of restoring tidal flow to approximately 1,493 acres of former diked oat and hay farmland now designated as the Napa Marsh Unit of the San Pablo Bay National Wildlife Refuge. During the time the Trustees were reviewing projects the Fish and Wildlife Service obtained funding for this project from other sources, and the project is in the process of being implemented.

(3) Burdell Unit

This project is located on the west side of the Petaluma River, about 5 miles upstream from the mouth and south of the Petaluma Marsh, and consists of restoring about 500 acres of tidal wetland on an old farm field. Because the area has subsided, the marsh elevation would have to be raised with dredge spoils to restore tidal action, and there are potential flooding problems for adjacent land owners.

(4) Skaggs Island

This project is located on the former Naval Security Group Facility on Skaggs Island, and consists of restoring approximately 3,310 acres of former tidal marsh through breaching of levees. Acquisition by the U.S. Fish and Wildlife Service has not been completed, and there is a need to evaluate whether buildings need to be demolished and whether there are contaminant-related issues theat would affect restoration activities.

(5) Napa-Sonoma Marshes

This project is located in former Cargill salt ponds located primarily north of Highway 37, recently acquired by the Department of Fish and Game, and consists of restoring approximately 5,000-6,000 acres of salt ponds to tidal marsh. Present high salinity from salt evaporation will have to be addressed, and might be prohibitively expensive for the amount of money available from the United Heckathorn settlement.

(6) City of Petaluma Marsh

This project is located on the Petaluma River adjacent to the city of Petaluma, and north of the Petaluma Marsh, and consists of restoring approximately 100-150 acres of subsided, diked historic wetland to tidal marsh. Because of the distance upriver that the site is located, there is uncertainty as to whether the restoration will provide significant benefit to tidal marsh species.

(7) Bruener Property

This project is located Point Pinole Regional Park in north Richmond and consists of restoring approximately 217 acres of diked former tidal marsh. Restoration would be constrained by the need to protect vernal pools already existing on the site.

(8) Hamilton Army Airfield

This project is located on the former Hamilton Army Airfield near the city of Novato and would restore approximately 500-700 acres of diked historic tidal marsh now covered by runway areas to tidal action. Contaminant cleanup is a concern at this site, and is currently being addressed by the Army Corps of Engineers; the Crops of Engineers is also working with the California Coastal Commission to achieve wetlands restoration. However, the cleanup time line does not make this project feasible for funding by the United Heckathorn Trustee Council in the near term.

(9) West End Duck Club

This project is located adjacent to Sonoma Creek and would consist of restoring approximately 774 acres of former Cargill property to tidal action. The site is currently functioning as a muted tidal wetland, making the benefit of restoration to full tidal action questionable in relation to the expense of the project. In addition, management responsibility for the property has not yet been transferred to a resource agency.

The Trustees intend to allocate the $365,000 damage settlement and the interest it has earned, to the U.S. Fish and Wildlife Service for implementation of the Lower Tubbs Island project by May 2000. The project will be implemented in the summer of 2000 if all permits and matching funds are obtained by that date. A ten year monitoring plan will be developed and monitoring will begin within a year of completion of the project(s).

The Fish and Wildlife Service (Service), acting in its capacity as lead trustee for the United Heckathorn Trustee Council (Council), will host a public hearing from 6:30 until 8:00 p.m., Wednesday, March 22, 2000, at the Martin Luther King Community Center, 360 Harbor Way South, Richmond, California. The purpose of the hearing is to receive comments on the decision by the United Heckathorn Trustee Council to fund the restoration of Lower Tubbs, Island, San Pablo Bay, California, to compensate the public for impairment of fish and wildlife habitat resulting from releases of DDT at the United Heckathorn Superfund Site in Richmond, California. Anyone wishing to make an oral statement for the record is encouraged to provide a written copy of their statement to be presented to the Service at the start of the hearing. In the event there is a large attendance, the time allocated for oral statements may have to be limited. Oral and written statements receive equal consideration. There are no limits to the length of written comments presented at the hearing or mailed to the Service. Legal notices announcing the date, time, and location of the hearing are being published in newspapers concurrently with this Federal Register notice.

Written comments may be submitted until March 30, 2000, to the Service office in the ADDRESSES section.

National Environmental Policy Act

The Fish and Wildlife Service and any other agencies that may receive funds from the Trustees must agree to obtain and comply with any applicable permits or authorizations from environmental regulatory agencies. In addition, recipients of funds must complete all environmental documentation and public review requirements under the National Environmental Policy Act (NEPA) and/or California Environmental Quality Act (CEQA). NEPA compliance has been documented in the form of an Environmental Assessment and Finding of No Significant Impact, completed in August 1998. NEPA documentation is included in the Restoration Plan.

References Cited

Lee II, H.; A. Lincoff; B.L. Boese; F.A. Cole; S.F. Ferraro; J.O. Lamberson; R.J. Ozretich; R.C. Randall; K.R. Rukavina; D.W. Schults; K.A. Sercu; D.T. Specht; R.C. Swartz; and D.R. Young. 1994. Ecological risk assessment of the marine sediments at the United Heckathorn Superfund Site. Final Report to Region IX; Pacific Ecosystems Branch, ERL-Narragansett, U.S. EPA, Newport, Oregon; 391 p. Available from: Superfund Records Center, EPA Region IX, San Francisco, CA; ERL-N-269.

White, P.J.; N.P. Kohn; W.W. Gardner; and J.Q. Word. 1994. The remedial investigation of marine sediment at the United Heckathorn Superfund Site. Pacific Northwest Laboratory, U.S. Department of Energy, Richland, Washington; 466 p. Available from: NTIS, Springfield, VA; PNL-9383.

Author

The primary authors of this notice are Daniel Welsh and James Haas (see ADDRESSES section).

Authority

The authority for this action is the Comprehensive Environmental Response, Compensation, and Liability Act of 1980, as amended (42 U.S.C. 9601 et seq.).

Dated: February 18, 2000.
Elizabeth H. Stevens,
Deputy Manager, California-Nevada Operations Office, Sacramento, California.

[FR Doc. 00-4432 Filed 2-28-00; 8:45 am]

BILLING CODE 4310-55-P